DEPARTMENT OF THE INTERIOR

Bureau of Land Management

[CA-680-00-1220-HQ]

Extension of the Comment Period Regarding the Proposal of a Supplemental Rule Restricting Recreational Shooting to Protect Human Health and Safety in the Populated Western Portion of Wonder Valley California, Federal Register Notice 00-8017

AGENCY: Bureau of Land Management, Department of the Interior, Barstow Field Office, Desert District, California.

ACTION: This notice extends the comment period for Federal Register Notice 00-8017 to May 30, 2000. A public information meeting will be held May 9, 2000 at the Wonder Valley Community Center located at 80526½ Amboy Road in Wonder Valley, California. Bureau of Land Management officials will be available from 5:00 to 8:00 P.M. to meet with concerned citizens and answer questions regarding Federal Register Notice 00-8017.

SUMMARY: This notice extends the comment period for Federal Register Notice 00-8017 to May 30, 2000. A public information meeting will be held May 9, 2000 at the Wonder Valley Community Center located at 80526 ½ Amboy Road in Wonder Valley, California. Bureau of Land Management officials will be available from 5:00 to 8:00 P.M. to meet with concerned citizens and answer questions regarding Federal Register Notice 00-8017. Federal Register Notice 00-8017 proposes that on those public lands administered by the BLM and bounded to the west by the corporate limits of the City of Twentynine Palms, California, the south by Joshua Tree National Park, the north by the Marine Corps Air Ground Combat Center and the east by Range 11 East, San Bernardino Meridian, it would be prohibited to fire any firearm except shotguns with shot shells containing shot no larger than one-half the diameter of the bore. This proposed supplemental rule would not affect the legitimate and legal pursuit of game or shooting at controlled, permitted ranges.

DATES: Comments regarding Federal Register Notice 00-8017 must be received in writing to the BLM by May 30, 2000. Written comments shall be mailed to the following addresses: Mr. Tim Read, Field Manager, Bureau of Land Management, Barstow Field Office, 2601 Barstow Road, Barstow, CA 92311.

SUPPLEMENTARY INFORMATION: Uncontrolled recreational shooting on public land creates a public health and safety hazard by firing solid projectile firearms (such as rifles and pistols), that have a long range, into and about a populated rural area. The area of concern also receives heavy recreational use by equestrians, recreational miners and off-highway vehicles. BLM has received complaints from area residents and recreationist that have nearly been struck by stray bullets from recreational shooting. The proposed supplemental rule would prohibit the firing of any firearm except shotguns with shot shells containing shot no larger than one-half the diameter of the bore. Rounds of this type have less energy and travel considerably shorter distances than solid projectiles (such as those fired from a rifle or pistol). By prohibiting all but low energy, short range gunfire, a safer environment on both public and private lands within this populated area will be created. This proposed supplementary rule only affects public lands administered by BLM and would not affect the legitimate and legal pursuit of game or shooting at controlled, permitted ranges. This proposed supplemental rule will not infringe upon Constitutional rights of an individual to own or possess a lawful firearm. In accordance with Title 43, Code of Federal Regulations Section 8365.1-6, the State Director may establish supplementary rules in order to provide for the protection of persons, property and public lands and resources. This authority was delegated to the District Managers and Field Managers pursuant to BLM Manual 1203, California Supplement. Failure to comply with the proposed supplementary rule would be punishable by a fine not to exceed $100,000 and/or imprisonment not to exceed twelve months. The environmental effects of the proposed rule were analyzed separately by Environmental Assessment CA-680-00-29.

FOR FURTHER INFORMATION CONTACT: BLM Barstow Field Office, 2601 Barstow Road, Barstow, CA 92231, telephone (760) 252-6000.

Tim Read,
Field Manager.

[FR Doc. 00-11096 Filed 5-3-00; 8:45 am]

BILLING CODE 4310-84-P